DEPARTMENT OF AGRICULTURE

Grain Inspection, Packers and Stockyards Administration

[03-01-SA]

Designation for the Grand Forks (ND) Area

AGENCY: Grain Inspection, Packers and Stockyards Administration, USDA.

ACTION: Notice.

SUMMARY: Grain Inspection, Packers and Stockyards Administration (GIPSA) announces designation of the following organizations to provide official services under the United States Grain Standards Act, as amended (Act):

Grain Inspection, Inc. (Jamestown);

Minot Grain Inspection, Inc. (Minot);

North Dakota Grain Inspection Service, Inc. (North Dakota); and

Northern Plains Grain Inspection Service, Inc. (Northern Plains).

EFFECTIVE DATE: October 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@ usda.gov.

SUPPLEMENTARY INFORMATION: This action has been reviewed and determined not to be a rule or regulation as defined in Executive Order 12866 and Departmental Regulation 1512-1; therefore, the Executive Order and Departmental Regulation do not apply to this action.

In the March 3, 2003, Federal Register (68 FR 9971), GIPSA asked persons interested in providing official services in the geographic area assigned to Grand Forks Grain Inspection Department, Inc. (Grand Forks), to submit an application for designation. Applications were due by April 1, 2003.

There were five applicants for the Grand Forks Area: Grand Forks, Jamestown, Minot, and North Dakota, all currently designated official agencies; and Paul B. Bethke, Terry D. Pladson, and Ryan M. Kuhl proposing to do business as Northern Plains Grain Inspection Service, Inc. Grand Forks applied for designation to provide official services in the entire area currently assigned to them. Jamestown, Minot, North Dakota, and Northern Plains, applied for all or part of the area currently assigned to Grand Forks.

GIPSA asked for comments on the applicants for providing service in the Grand Forks area in the May 1, 2003, Federal Register (68 FR 23279). Comments were due by May 1, 2003. GIPSA received 40 comments by the due date. Grand Forks received 14 favorable comments, 13 from grain elevator managers and one from Grand Forks' owner; and one unfavorable comment from a grain elevator manager. Jamestown received six favorable comments from grain elevator managers. Minot received one favorable comment from a grain elevator manager. North Dakota received five favorable comments from elevator managers. Northern Plains received 12 favorable comments and one unfavorable comment from grain elevator managers.

GIPSA evaluated all available information regarding the designation criteria in section 7(f)(l)(A) of the Act and, according to section 7(f)(l)(B), determined the following. Jamestown is better able to provide services in the southwestern portion of the Grand Forks area in North Dakota, as follows: the remainder of Wells and Eddy Counties in addition to the area they already serve. Minot is better able to provide services in the western portion of the Grand Forks area in North Dakota, as follows: the remainder of Bottineau County, in addition to the area they already serve. North Dakota is better able to provide services in the southeastern portion of the Grand Forks area in North Dakota, as follows: the remainder of Traill County, in addition to the area they already serve. Northern Plains is better able to provide services in a portion of the Grand Forks area in North Dakota, as follows: Benson, Cavalier, Grand Forks, Nelson, Ramsey, Rolette, Pembina, Pierce (the eastern portion only), Towner, and Walsh Counties.

These designation actions to provide official inspection services are effective October 1, 2003, and run concurrent with the official agencies' present designations, in the geographic areas specified above in addition to any areas they are already designated to serve, if applicable. North Dakota's current designation ends March 31, 2005; Jamestown's current designation ends March 31, 2006; Minot's current designation ends June 30, 2006. Northern Plains is designated for 18 months only to provide official services in the geographic area for which they applied. Interested persons may obtain official services by calling the telephone numbers listed below.

Official agency | Headquarters location and telephone | Designation start-end
Jamestown | Jamestown, ND 701-252-1290 | 04/01/2003-03/31/2006
Minot | Minot, ND 701-838-1734 | 07/01/2003-06/30/2006
North Dakota | Fargo, ND 701-293-7420 | 04/01/2002-03/31/2005
| Additional locations: Ayr, Enderlin, and Hillsboro, ND
Northern Plains | Grand Forks, ND 701-772-2414 | 10/01/2003-03/31/2005
| Additional location: Devils Lake, ND

Authority: Pub. L. 94-582, 90 Stat. 2867, as amended (7 U.S.C. 71 et seq.).

Dated: August 4, 2003.
Donna Reifschneider,
Administrator, Grain Inspection, Packers and Stockyards Administration.

[FR Doc. 03-20123 Filed 8-6-03; 8:45 am]

BILLING CODE 3410-EN-P